OVERSEAS PRIVATE INVESTMENT CORPORATION

September 14, 2006 Public Hearing; Sunshine Act Meeting

OPIC's Sunshine Act notice of its Public Hearing in Conjunction with each Board meeting was published in the Federal Register (Volume 71, Number 166, Pages 50949 and 50950) on August 28, 2006. No requests were received to provide testimony or submit written statements for the record; therefore, OPIC's public hearing in conjunction with OPIC's September 21, 2006 Board of Directors meeting scheduled for 2 p.m. on September 14, 2006 has been cancelled.

FOR FURTHER INFORMATION CONTACT: Information on the hearing cancellation may be obtained from Connie M. Downs at (202) 336-8438, via facsimile at (202) 218-0136, or via e-mail at cdown@opic.gov.

Dated: September 11, 2006.
Connie M. Downs,
OPIC Corporate Secretary.

[FR Doc. 06-7653 Filed 9-11-06; 11:55 am]

BILLING CODE 3210-01-M